SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: July 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR part 806, subpart E, for the time period specified above:

1. Cargill Meat Solutions Corporation—Cargill Meat Solutions, GF Certificate No. GF-202207222, Wyalusing Township, Bradford County, Pa.; Wells 1 and 3; Issue Date: July 12, 2022.

2. Pine Hills Country Club, Ltd.—Pine Hills Country Club, GF Certificate No. GF-202207223, Taylor Borough, Lackawanna County, Pa.; Well 1; Issue Date: July 12, 2022.

3. Union Deposit Corp.—Sportsman's Golf Course, GF Certificate No. GF-202207224, Lower Paxton Township, Dauphin County, Pa.; Wells 1, 2, and 3; Issue Date: July 12, 2022.

4. Middleburg Municipal Authority—Public Water Supply System, GF Certificate No. GF-202207225, Middleburg Borough and Franklin Township, Snyder County, Pa.; Well 1, Erb Run, West Branch Bowersox Run, and East Branch Bowersox Run; Issue Date: July 27, 2022.

Authority: Public Law 91-575, 84 Stat. 1509 et seq., 18 CFR parts 806 and 808.

Dated: August 3, 2022.
Jason E. Oyler,
General Counsel and Secretary to the Commission.

[FR Doc. 2022-16934 Filed 8-5-22; 8:45 am]

BILLING CODE 7040-01-P